DEPARTMENT OF HOMELAND SECURITY

Coast Guard

33 CFR Part 117

[USCG-2009-0337]

Drawbridge Operating Regulations; Inner Harbor Navigation Canal, New Orleans, LA

AGENCY: Coast Guard, DHS.

ACTION: Notice of temporary deviation from regulations.

SUMMARY: The Commander, Eighth Coast Guard District, has issued a temporary deviation from the regulation governing the operation of the SR 46 (St. Claude Avenue) bridge across the Inner Harbor Navigation Canal, mile 0.5 (GIWW mile 6.2 East of Harvey Lock) in New Orleans, Orleans Parish, Louisiana. This deviation provides for the bridge to remain closed to navigation for approximately 36 consecutive hours within two 42 hour windows of opportunity to conduct scheduled maintenance to the drawbridge.

DATES: This deviation is effective from 6 a.m. on Saturday, May 23, 2009 until 11:59 p.m. on Sunday, May 24, 2009, and from 6 a.m. on Saturday, May 30, 2009 until 11:59 p.m. on Sunday, May 31, 2009.

ADDRESSES: Documents indicated in this preamble as being available in the docket are part of docket USCG-2009-0337 and are available online by going to http://www.regulations.gov, selecting the Advanced Docket Search option on the right side of the screen, inserting USCG-2009-0337 in the Docket ID box, pressing Enter, and then clicking on the item in the Docket ID column. The material is also available for inspection or copying at two locations: the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have question on this deviation call David Frank, Bridge Administration Branch, telephone (504) 671-2128. If you have questions on viewing the docket, call Renee V. Wright, Program Manager, Docket Operations, telephone 202-366-9826.

SUPPLEMENTARY INFORMATION: The Board of Commissioners of the Port of New Orleans has requested a temporary deviation in order to perform maintenance on the lakeside operating strut guide of the bridge. These repairs are necessary for the continued operation of the bridge. This deviation allows the draw of the St. Claude Avenue, bascule bridge across the Inner Harbor Navigation Canal, mile 0.5 (GIWW mile 6.2 East of Harvey Lock), to remain closed to navigation for 36 consecutive hours between 6 a.m. on May 23, 2009 and 11:59 p.m. on Sunday, May 24, 2009. Work on the bridge will begin at 6 a.m. on May 23, 2009 unless a deep draft vessel requires a bridge opening during the morning hours. If a deep draft vessel needs a bridge opening, the work may be postponed for up to six hours.

The bascule bridge has a vertical clearance of 1 foot above high water in the closed-to-navigation position. Navigation on the waterway consists mainly of tugs with tows and some ships. The bridge normally opens for navigation an average of eight times during the deviation period. In accordance with 33 CFR 117.458(a), the draw of the bridge shall open on signal; except that, from 6:30 a.m. to 8:30 a.m. and from 3:30 p.m. to 5:45 p.m., Monday through Friday, except Federal holidays, the draw need not open for the passage of vessels. Normally, the draw is required to open at any time for a vessel in distress. However, the bridge will not be able to open for emergencies during the closure period. No alternate routes are available.

If for any reason, the work cannot be accomplished on May 23, 2009, the work will be postponed for one week and the same schedule will be used beginning at 6 a.m. on Saturday, May 30, 2009 until 11:59 p.m. on Sunday, May 31, 2009.

The Coast Guard has coordinated the closure with waterway users, industry, and other Coast Guard units. These dates and this schedule were chosen so as to minimize the significant effects on vessel traffic.

In accordance with 33 CFR 117.35(c), this work will be performed with all due speed in order to return the bridge to normal operation as soon as possible. This deviation from the operating regulations is authorized under 33 CFR 117.35.

Dated: April 29, 2009.
David M. Frank,
Bridge Administrator.

[FR Doc. E9-11690 Filed 5-19-09; 8:45 am]

BILLING CODE 4910-15-P